DEPARTMENT OF THE TREASURY

Community Development Financial Institutions Fund

Tribal Consultation Consistent With Executive Order 13175; Request for Public Comment

AGENCY: Community Development Financial Institutions Fund (CDFI Fund), U.S. Department of the Treasury.

ACTION: Request for public comment; Tribal consultation consistent with Executive Order 13175.

SUMMARY: This notice invites comments from the public on issues regarding the CDFI Fund's proposed report to assess the state of access to capital and credit in Native Communities as consistent with Executive Order 13175. The CDFI Fund will offer three opportunities to engage the public on this topic: (1) Through written comment; and (2) through two virtual meetings conducted as webcasts. All material submitted will be available for public inspection and copying.

DATES: For the three opportunities, the dates are listed below.

1. All written public comments and submissions must be received by the CDFI Fund no later than February 28, 2013.

2. The CDFI Fund's first webcast will be held at 1:00 p.m. ET, January 15, 2013. Please RSVP for the event by emailing cdfihelp@cdfi.treas.gov and we will provide the call in information.

3. The CDFI Fund's second webcast will be held at 4:00 p.m. ET, January 17, 2013. Please RSVP for the event by emailing cdfihelp@cdfi.treas.gov and we will provide the call in information.

ADDRESSES: Comments may be sent by mail to: Amber Kuchar, Associate Program Manager, CDFI Fund, U.S. Department of the Treasury, 1500 Pennsylvania Avenue NW., Washington, DC 20005, or by email to cdfihelp@cdfi.treas.gov.

FOR FURTHER INFORMATION CONTACT: Information regarding the CDFI Fund and its programs may be downloaded from the CDFI Fund's Web site at http://www.cdfifund.gov.

SUPPLEMENTARY INFORMATION: The CDFI Fund was created for the purpose of promoting economic revitalization and community development through investment in and assistance to Community Development Financial Institutions (CDFIs). Its vision is to economically empower America's underserved and distressed communities through the provision of low-cost capital to certified CDFIs. The CDFI Fund was established by the Riegle Community Development Banking and Financial Institutions Act of 1994.

In 2001, the CDFI Fund produced the Native American Lending Study (NALS), which analyzed lending and investment practices on Indian reservations and other lands held in trust by the United States government. Specifically, the NALS attempted to provide a baseline of information on access to capital and credit for Native Communities, identify barriers to private financing, analyze the impact on access to capital and to credit for Native people, and provide options to address these barriers.

The CDFI Fund is now building upon the original study and will assess to what extent Native Americans have access to capital and credit in Native Communities in today's economy. The CDFI Fund will produce a report that will be presented to the Department of the Treasury, United States Congress, Tribal governments, Tribal organizations, stakeholders, and the public. The new report will be a publicly available document to guide the CDFI Fund's continued outreach to Native Communities ¹ and provide baseline information on the current state of access to credit and capital in Native Communities. The research will provide policy-makers, Tribal governments, Tribal community organizations, and economic development practitioners with detailed analysis and quantitative research that can lead to actionable recommendations for improving access to capital and credit in Native Communities.

¹ Native American, Alaska Native, and Native Hawaiian communities are collectively referred to as “Native Communities”.

On November 6, 2000, President Clinton signed Executive Order 13175 (Consultation and Coordination With Indian Tribal Governments) in order to “establish regular and meaningful consultation and collaboration with Tribal officials in the development of Federal policies that have Tribal implications, to strengthen the United States government-to-government relationships with Indian Tribes, and to reduce the imposition of unfunded mandates upon Indian Tribes * * *” The Executive Order was further supported on November 5, 2009 when President Obama signed the Memorandum on Tribal Consultation, pronouncing Tribal consultations a critical ingredient of a sound and productive Federal-Tribal relationship. The CDFI Fund fully embraces the Executive Order and is taking this initial step to engage Tribes and the public in meaningful consultation.

The CDFI Fund invites and encourages comments and suggestions germane to the mission, purpose, content, and implementation of the new, proposed report. The CDFI Fund is particularly interested in comments that will help determine the focus and mission of the report, as well as influence its methodology. Specifically, the CDFI Fund is interested in comments that address the following questions:

1. What should the access to capital and credit report accomplish?

2. What should be the scope and focus of the report?

3. What are the top three desired outcomes of the report?

4. Who are the key users of the report?

5. Are there emerging trends, innovative concepts, and promising solutions that could significantly improve capital access and availability and quality of credit in Native Communities that the report should focus on or address?

6. How did you or your organization use the NALS?

7. What were the most significant outcomes for you or your organization from the NALS?

8. What were the best elements of how the NALS was conducted?

General Comments

The CDFI Fund is also interested in receiving any general comments and suggestions regarding the focus, mission, and content of the report that are not addressed above.

Dated: November 20, 2012.
Donna J. Gambrell,
Director, Community Development Financial Institutions Fund.

[FR Doc. 2012-28995 Filed 11-29-12; 8:45 am]

BILLING CODE P